DEPARTMENT OF AGRICULTURE

Forest Service

Information Collection: Wilderness and Wild and Scenic Rivers Program Administration

AGENCY: Forest Service, USDA.

ACTION: Notice; request for comment.

SUMMARY: In accordance with the Paperwork Reduction Act of 1995, the USDA Forest Service is seeking comments from all interested individuals and organizations on the renewal of a currently approved information collection, Wilderness and Wild and Scenic Rivers Program Administration.

DATES: Comments must be received in writing on or before June 27, 2022 to be assured of consideration. Comments received after that date will be considered to the extent practicable.

ADDRESSES: Comments concerning this notice should be addressed to Eric Sandeno, Wilderness/Wild and Scenic Rivers Information Manager, USDA Forest Service, 1627 Cemetery Road/PO Box 210, Marlinton, WV 24954.

Comments also may be submitted via facsimile to Eric Sandeno at 304-799-6820 or by email at eric.sandeno@usda.gov.

Due to COVID-19 health and safety protocols to protect employees and visitors, Forest Service offices may be closed to the public. The public may inspect comments received at the USDA Forest Service, 1627 Cemetery Road, Marlinton, WV 24954 during normal business hours and if arrangements are made in advance.

FOR FURTHER INFORMATION CONTACT: Eric Sandeno, Wilderness/Wild and Scenic Rivers Information Manager, at 304-799-4334, extension 7995548 or via email at eric.sandeno@usda.gov. Individuals who use telecommunication devices for the deaf (TDD) may call the Federal Relay Information Service (FIRS) at 1-800-877-8339 twenty-four hours a day, every day of the year, including holidays.

SUPPLEMENTARY INFORMATION: Title: Wilderness and Wild and Scenic Rivers Program Administration.

OMB Number: 0596-0106.

Expiration Date of Approval: November 30, 2022.

Type of Request: Renewal with revisions.

Abstract: Visitor Permits and Visitor Registration Cards may be required as a means to disperse use, protect natural and cultural resources, provide for the health and safety of visitors, allocate capacity, provide special restrictions or important information the visitor should know, and address overuse and site deterioration in environmentally sensitive areas.

Forms

FS-2300-30, Visitor's Permit. Information collected includes the visitor's name and address, area(s) to be visited, dates of visit, length of stay, location of entry and exit points, method of travel, number of people in the group, and where applicable, the number of pack and saddle stock (that is, the number of animals either carrying people or their gear), the number of dogs, and the number of watercraft and/or vehicles (where allowed).

The Forest Service employee who completes the Visitor's Permit will note on the permit any special restrictions or important information the visitor should know. The visitor receives a copy of the permit and instructions to keep the permit with them for the duration of the visit.

FS-2300-32, Visitor Registration Card. Information collected includes the visitor's name and address, area(s) to be visited, dates of visit, length of stay, location of entry and exit points, method of travel, number of people in the group, and where applicable, the number of pack and saddle stock (that is, the number of animals either carrying people or their gear) in the group, the number of dogs, and the number of watercraft and/or vehicles (where allowed).

Estimate of Annual Burden: 3 minutes.

Type of Respondents: Individuals.

Estimated Annual Number of Respondents: 552,000.

Estimated Annual Number of Responses per Respondent: 1.

Estimated Total Annual Burden on Respondents: 27,600 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: April 25, 2022.
Tina J. Terrell,
Associate Deputy Chief, National Forest System.

[FR Doc. 2022-09114 Filed 4-27-22; 8:45 am]

BILLING CODE 3411-15-P